DEPARTMENT OF JUSTICE

Notice of Lodging of Consent Decree Pursuant to the Clean Air Act

On August 21, 2013, the Department of Justice lodged a proposed Consent Decree (“Decree”) in the United States District Court for the Eastern District of Kentucky, Ashland Division in the lawsuit entitled United States of America and the Commonwealth of Kentucky v. AK Steel Corporation (“Defendant”), Civil Action No. 03-CV-00122-HRW.

This Decree represents a settlement of claims against the Defendant for violations of the Clean Air Act, 42 U.S.C. 7401 et seq., implementing regulations, the Defendant's title V permit, and the Kentucky State Implementation Plan (“SIP”). The alleged violations occurred at the Defendant's coke production facilities located at 400 East Winchester Avenue in Ashland, Kentucky. The Defendant ceased operations at the coke facilities on June 21, 2011.

Under this settlement between the United States and the Commonwealth and the Defendant, the Defendant will be required to pay a civil penalty to the United States in the amount of $1,625,000. The Defendant will be required to pay a civil penalty to the Commonwealth in the amount of $25,000. In addition, the Defendant will be required to perform two supplemental environmental projects (“SEPs”) for the benefit of the Commonwealth at the Defendant's steel facilities which are also situated in Ashland, Kentucky. The purpose of the SEPs is to reduce the emission of particulates. The estimated cost of performing the SEPs is $2 million. Since the coke facilities are no longer in operation, the Defendant is not required, under this Consent Decree, to take any action to bring the coke facilities into compliance with the Clean Air Act.

The publication of this notice opens a period for public comment on the Consent Decree. Comments should be addressed to the Assistant Attorney General, Environment and Natural Resources Division, and should refer to United States and Commonwealth of Kentucky v. AK Steel Corporation, D.J. Ref. No. 90-5-2-1-09449. All comments must be submitted no later than thirty (30) days after the publication date of this notice. Comments may be submitted either by email or by mail:

To submit comments: | Send them to:
By e-mail | pubcomment-ees.enrd@usdoj.gov
By mail | Assistant Attorney General, U.S. DOJ—ENRD, P.O. Box 7611, Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $8.75 (25 cents per page reproduction cost) payable to the United States Treasury.

Henry S. Friedman,
Assistant Section Chief, Environmental Enforcement Section, Environment and Natural Resources Division.

[FR Doc. 2013-20776 Filed 8-26-13; 8:45 am]

BILLING CODE 4410-15-P